DEPARTMENT OF TRANSPORTATION

Federal Aviation Administration

14 CFR Part 39

[Docket No. FAA-2005-22170; Directorate Identifier 2005-NM-073-AD; Amendment 39-14349; AD 2005-22-05]

RIN 2120-AA64

Airworthiness Directives; Airbus Model A320-111, -211, -212, and -231 Airplanes

AGENCY: Federal Aviation Administration (FAA), Department of Transportation (DOT).

ACTION: Final rule.

SUMMARY: The FAA is adopting a new airworthiness directive (AD) for certain Airbus Model A320-111, -211, -212, and -231 airplanes. This AD requires, for certain airplanes, modifying the cables and access holes to the inner tank fuel pumps; and, for certain other airplanes, inspecting the fuel pump access holes and modifying the access holes, if necessary. This AD results from fuel system reviews conducted by the manufacturer. We are issuing this AD to prevent chafing of the fuel pump cables, which could result in electrical arcing and possible ignition of fuel vapors and consequent explosion of the fuel tank.

DATES: This AD becomes effective November 30, 2005.

The Director of the Federal Register approved the incorporation by reference of certain publications listed in the AD as of November 30, 2005.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A320-111, -211, -212, and -231 airplanes. That NPRM was published in the Federal Register on August 23, 2005 (70 FR 49213). That NPRM proposed to require, for certain airplanes, modifying the cables and access holes to the inner tank fuel pumps; and, for certain other airplanes, inspecting the fuel pump access holes and modifying the access holes, if necessary.

Comments

We provided the public the opportunity to participate in the development of this AD. We have considered the comment received. The commenter supports the NPRM.

Clarification of Alternative Method of Compliance (AMOC) Paragraph

We have revised this action to clarify the appropriate procedure for notifying the principal inspector before using any approved AMOC on any airplane to which the AMOC applies.

Editorial Change

As stated in the “Relevant Service Information” section of the NPRM, Airbus Service Bulletin A320-28-1054, dated August 23, 1993, describes procedures for performing an inspection, and “as applicable, modifying the fuel pump access holes.” We have revised paragraph (f)(2) of the final rule to state “* * * modify the access holes, as applicable * * *” instead of “* * * modify the access holes, as necessary * * *.”

Conclusion

We have carefully reviewed the available data, including the comment received, and determined that air safety and the public interest require adopting the AD with the changes described previously. We have determined that these changes will neither increase the economic burden on any operator nor increase the scope of the AD.

Costs of Compliance

This AD will affect about 17 airplanes of U.S. registry. The actions will be performed at an average labor rate of $65 per work hour, and any needed parts will be supplied from operator inventory.

For about 7 U.S.-registered airplanes subject to Airbus Service Bulletin A320-28-1008, Revision 1, dated April 10, 1989, the modification will take about 3 work hours. Based on these figures, the estimated cost of this modification for U.S. operators is $1,365, or $195 per airplane.

For about 10 U.S.-registered airplanes subject to Airbus Service Bulletin A320-28-1054, dated August 23, 1993, the inspection will take about 1 work hour. Based on these figures, the estimated cost of this inspection for U.S. operators is $650, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-22-05 Airbus: Amendment 39-14349. Docket No. FAA-2005-22170; Directorate Identifier 2005-NM-073-AD.

Effective Date

(a) This AD becomes effective November 30, 2005.

Affected ADs

(b) None.

Applicability

(c) This AD applies to Airbus Model A320-111, -211, -212, and -231 airplanes, certificated in any category, that have not received Airbus Modification 21088 or 21999 in production; and airplanes that have received Airbus Modification 21088 in production and have manufacturer's serial numbers 91 to 113 inclusive and 140 to 189 inclusive.

Unsafe Condition

(d) This AD results from fuel systems reviews conducted by the manufacturer. We are issuing this AD to prevent chafing of the fuel pump cables, which could result in electrical arcing and possible ignition of fuel vapors and consequent explosion of the fuel tank.

Compliance

(e) You are responsible for having the actions required by this AD performed within the compliance times specified, unless the actions have already been done.

Inspection and Modification of Fuel Pump Access Holes

(f) Within 58 months after the effective date of this AD, perform the actions required by paragraph (f)(1) or (f)(2) of this AD, as applicable.

(1) For airplanes that have not received Airbus Modification 21088 or 21999 in production: Modify the cables and access holes to the inner tank fuel pumps, in accordance with the Accomplishment Instructions of Airbus Service Bulletin A320-28-1008, Revision 1, dated April 10, 1989.

(2) For airplanes that have received Airbus Modification 21088 in production and have manufacturer's serial numbers 91 to 113 inclusive and 140 to 189 inclusive: Perform a general visual inspection for the correct radius of the fuel pump access holes and modify the access holes, as applicable, in accordance with the Accomplishment Instructions of Airbus Service Bulletin A320-28-1054, dated August 23, 1993. Do any applicable repairs before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

No Reporting Requirement

(g) Although Airbus Service Bulletin A320-28-1054, dated August 23, 1993, describes procedures for reporting inspection findings to Airbus, this AD does not require that report.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive F-2005-031, dated February 16, 2005, also addresses the subject of this AD.

Material Incorporated by Reference

(j) You must use the service information identified in Table 1 of this AD to perform the actions that are required by this AD, unless the AD specifies otherwise. Airbus Service Bulletin A320-28-1008, Revision 1, dated April 10, 1989, contains the following effective pages:

Page No. | Revision level shown on page | Date shown on page
1, 2, 7-9 | 1 | April 10, 1989.
3-6 | Original | February 9, 1989.

The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 1.—Material Incorporated by Reference
Airbus service bulletin | Revision level | Date
A320-28-1008 | 1 | April 10, 1989.
A320-28-1054 | Original | August 23, 1993.

Issued in Renton, Washington, on October 18, 2005.
Kevin M. Mullin,
Acting Manager, Transport Airplane Directorate, Aircraft Certification Service.

[FR Doc. 05-21312 Filed 10-25-05; 8:45 am]

BILLING CODE 4910-13-P